DEPARTMENT OF THE INTERIOR

Bureau of Land Management

[CA670-1150DK]

Closure of Lands to Vehicular Camping, Imperial County, CA

AGENCY: Bureau of Land Management, California Desert District, Interior.

ACTION: Temporary camping closure order for a portion of lands within and adjacent to the East Mesa area of critical environmental concern (California Desert Conservation Area ACEC #70), Imperial County, CA.

SUMMARY: The Bureau of Land Management will implement a Temporary Camping Closure in accordance with 43 CFR 8364.1. This closure to camping will include the following portion of land known as “East Mesa,” west of the Old Coachella Canal: T16S., R. 20 E., SBM Sec. 31 (portion west of canal and north of old Interstate 80). These lands are located on BLM managed lands west of the old Coachella Canal and extending north of old Highway 80 just west of the Imperial Sand Dunes Recreation Area. This closure will be in effect for a period of 1 year. Posting of closure boundaries and approved routes of travel will be accomplished in this area. Vehicular traffic in this area is restricted to approved routes of travel.

SUPPLEMENTARY INFORMATION: The purpose of this closure is to implement the conference opinion (U.S. Fish & Wildlife Service #1-6-97-F-8), for the use of Herman Schneider Memorial Bridge, also known as Gray's Well Bridge, located on the All American Canal just west of the Imperial Sand Dunes Recreation Area.

The purpose for constructing Herman Schneider Memorial Bridge was to connect the Imperial Sand Dunes Recreation Area south of Interstate 8 to the Recreation Area north of Interstate 8. In consultation with the U.S. Fish and Wildlife Service, BLM is implementing reasonable and prudent measure number 2, which requires this area be identified as closed to vehicular camping.

Since 1989, the area north of Interstate 8 and west of the old Coachella Canal has sustained an increase in vehicular camping due to overflow from the Imperial Sand Dunes Recreation Area. Closure of the lands to camping will eliminate intensive riding activities normally found in and around campsites, which adversely impacts Flat Tailed Horned Lizard habitat. Flat Tailed Horned Lizard habitat which is closed to camping is expected to recover from impacts resulting from intensive use.

EFFECTIVE DATE: This closure will be effective on April 06, 2001 and will remain in effect for a period of one year.

FOR FURTHER INFORMATION CONTACT: Roxie C. Trost, BLM Resources Branch Chief, Bureau of Land Management, El Centro Resource Area, 1661 4th St, El Centro California 92243, (760) 337-4420.

Dated: March 30, 2001.
Roxie C. Trost,
Acting Field Manager.

[FR Doc. 01-16874 Filed 7-5-01; 8:45 am]

BILLING CODE 4310-40-M